DEPARTMENT OF TRANSPORTATION

Federal Transit Administration

Safety Advisory 24-2 Street-Running Rail Vehicle Collisions

AGENCY: Federal Transit Administration (FTA), Department of Transportation (DOT).

ACTION: Notice of safety advisory.

SUMMARY: The Federal Transit Administration (FTA) has determined that street-running rail collisions are a risk to public transportation and is issuing Safety Advisory 24-2 to recommend actions to mitigate this risk.

FOR FURTHER INFORMATION CONTACT: Ivey Glendon, Safety Assurance and Risk Management Division Chief, Office of Transit Safety and Oversight, FTA, telephone (202) 366-3236, or Ivey.Glendon@dot.gov.

SUPPLEMENTARY INFORMATION: FTA recommends that State Safety Oversight Agencies (SSOAs) direct Rail Transit Agencies (RTAs) operating street-running-rail systems in their jurisdictions to conduct an analysis of street-running rail collisions and consider and implement mitigation strategies to reduce these collisions. FTA requests that any documents be uploaded within 180 days from the issuance of this Safety Advisory.

Safety Advisory 24-2 also identifies resources that provide guidance on identifying specific hazards that may cause or contribute to street-running rail vehicle collisions, completing a safety risk assessment, and developing mitigations to address the assessed safety risks for transit agencies.

FTA's Safety Advisory 24-2 “Street-Running Rail Vehicle Collisions” is available on the agency's public website: https://www.transit.dot.gov/regulations-and-guidance/safety/fta-safety-advisories.

Authority: 49 U.S.C. 5329; 49 CFR 1.91 and 670.29.

Veronica Vanterpool,
Deputy Administrator.

[FR Doc. 2024-27501 Filed 11-22-24; 8:45 am]

BILLING CODE 4910-57-P